DEPARTMENT OF ENERGY

Federal Energy Regulatory Commission

[Docket No. CP00-6-000]

Gulfstream Natural Gas System, L.L.C.; Notice of Resource Agency Meeting

April 4, 2000.

On April 20, 2000, the Office of Energy Projects staff will attend a Regulatory Coordination Team Meeting at the offices of the Florida Department of Environmental Protection, 3804 Coconut Palm Drive in Tampa, Florida, starting at 9:00 am. The meeting is part of Florida's Team Permitting Process for the Gulfstream Pipeline Project. Federal, state, and local resource agencies will be in attendance along with representatives of Gulfstream Natural Gas System, L.L.C. to discuss agency concerns, coordination logistics, and the Federal process for the Gulfstream Pipeline Project in the above referenced docket.

For additional information, contact Mr. Paul McKee of the Commission's Office of External Affairs at (202) 208-1088.

Linwood A. Watson, Jr.,
Acting Secretary.

[FR Doc. 00-8752 Filed 4-7-00; 8:45 am]

BILLING CODE 6717-01-M